DEPARTMENT OF ENERGY

Federal Energy Regulatory Commission

Combined Notice of Filings #1

Take notice that the Commission received the following exempt wholesale generator filings:

Docket Numbers: EG24-201-000.

Applicants: Goose Prairie Solar LLC.

Description: Goose Prairie Solar LLC submits Notice of Self-Certification of Exempt Wholesale Generator Status.

Filed Date: 6/10/24.

Accession Number: 20240610-5050.

Comment Date: 5 p.m. ET 7/1/24.

Take notice that the Commission received the following electric rate filings:

Docket Numbers: ER21-1635-007.

Applicants: PJM Interconnection, L.L.C.

Description: Compliance filing: Black Start Filing to Reinstate Prior Rate to be effective 1/1/2024.

Filed Date: 6/7/24.

Accession Number: 20240607-5176.

Comment Date: 5 p.m. ET 6/28/24.

Docket Numbers: ER21-1635-008.

Applicants: PJM Interconnection, L.L.C.

Description: Compliance filing: Revision to Black Start Filing to Reinstate Prior Rate to be effective 1/1/2024.

Filed Date: 6/10/24.

Accession Number: 20240610-5094.

Comment Date: 5 p.m. ET 7/1/24.

Docket Numbers: ER22-983-008.

Applicants: ISO New England Inc., New England Power Pool Participants Committee.

Description: Compliance filing: ISO New England Inc. submits tariff filing per 35: ISO-NE; Filing to Comply with April 2024 Order Re Order No. 2222 Compliance to be effective 11/1/2026.

Filed Date: 6/10/24.

Accession Number: 20240610-5069.

Comment Date: 5 p.m. ET 7/1/24.

Docket Numbers: ER22-1804-000.

Applicants: Yaphank Fuel Cell Park, LLC.

Description: Refund Report: Refund report to 1 to be effective N/A.

Filed Date: 6/10/24.

Accession Number: 20240610-5101.

Comment Date: 5 p.m. ET 7/1/24.

Docket Numbers: ER24-1743-001.

Applicants: PJM Interconnection, L.L.C.

Description: Tariff Amendment: Amendment to Clean-Up Filing in ER24-1743 to be effective 1/15/2024.

Filed Date: 6/10/24.

Accession Number: 20240610-5059.

Comment Date: 5 p.m. ET 7/1/24.

Docket Numbers: ER24-2216-000.

Applicants: PJM Interconnection, L.L.C.

Description: 205(d) Rate Filing: Original GIA, Service Agreement No. 7257; AF2-235 to be effective 5/8/2024.

Filed Date: 6/7/24.

Accession Number: 20240607-5178.

Comment Date: 5 p.m. ET 6/28/24.

Docket Numbers: ER24-2217-000.

Applicants: SunZia Transmission, LLC.

Description: Compliance filing: Orders 2023/2023-A Compliance Filing to be effective 12/31/9998.

Filed Date: 6/10/24.

Accession Number: 20240610-5036.

Comment Date: 5 p.m. ET 7/1/24.

Docket Numbers: ER24-2218-000.

Applicants: Midcontinent Independent System Operator, Inc.

Description: 205(d) Rate Filing: 2024-06-10_Attachment FF-3 and FF-4 regarding MEAN Integration to be effective 8/10/2024.

Filed Date: 6/10/24.

Accession Number: 20240610-5079.

Comment Date: 5 p.m. ET 7/1/24.

Take notice that the Commission received the following electric securities filings:

Docket Numbers: ES24-40-000.

Applicants: NextEra Energy Transmission Southwest, LLC.

Description: Application Under Section 204 of the Federal Power Act for Authorization to Issue Securities of NextEra Energy Transmission Southwest, LLC.

Filed Date: 6/10/24.

Accession Number: 20240610-5089.

Comment Date: 5 p.m. ET 7/1/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 10, 2024.
Debbie-Anne A. Reese,
Acting Secretary.

[FR Doc. 2024-13184 Filed 6-14-24; 8:45 am]

BILLING CODE 6717-01-P